DEPARTMENT OF TRANSPORTATION

Federal Aviation Administration

[Summary Notice No. PE-2004-59]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.

Issued in Washington, DC, on July 19, 2004.
Anthony F. Fazio,
Director, Office of Rulemaking.

Dispositions of Petitions

Docket No.: FAA-2004-18461.

Petitioner: Carlin Air.

Section of 14 CFR Affected: 14 CFR 135.203(a)(1).

Description of Relief Sought/Disposition: To permit Carlin Air to conduct operations under visual flight rules outside controlled airspace, over water, at an altitude below 500 feet above the surface. Grant, 6/30/2004, Exemption No. 8358.

Docket No.: FAA-2004-18470.

Petitioner: Wildlife Research and Management.

Section of 14 CFR Affected: 14 CFR 135.143(c)(2).

Description of Relief Sought/Disposition: To permit Wildlife Research and Management to operate certain aircraft under part 135 without a TSO-C112 (Mode S) transponder installed on those aircraft. Grant, 7/02/2004, Exemption No. 8359.

Docket No.: FAA-2000-8063.

Petitioner: Eagle Canyon Airlines, Inc., d.b.a. Scenic Airlines.

Section of 14 CFR Affected: 14 CFR 121.345(c)(2).

Description of Relief Sought/Disposition: To permit Eagle Canyon Airlines, Inc., an amendment to Exemption No. 6839B by extending its November 30, 2004 termination date to December 31, 2004, unless sooner superseded or rescinded. Grant, 7/02/2004, Exemption No. 6839C.

Docket No.: FAA-2002-13151.

Petitioner: Elliott Aviation Flight Services, Inc.

Section of 14 CFR Affected: 14 CFR 135.143(c)(2).

Description of Relief Sought/Disposition: To permit Elliott Aviation Flight Services, Inc., to operate certain aircraft under part 135 without a TSO-C112 (Mode S) transponder installed on those aircraft. Grant, 7/2/2004, Exemption No. 7347B.

Docket No.: FAA-2004-18524.

Petitioner: Plainwell Pilot's Association.

Section of 14 CFR Affected: 14 CFR 135.251, 135.255, and 135.353, and appendices I and J to part 121.

Description of Relief Sought/Disposition: To permit Plainwell Pilot's Association to conduct local sightseeing flights at the Plainwell Airport, Plainwell, Michigan, on or about July 4, 2004, for compensation or hire, without complying with certain anti-drug and alcohol misuse prevention requirements of part 135, subject to certain conditions and limitations. Grant, 7/1/2004, Exemption No. 8357.

Docket No.: FAA-2004-18513.

Petitioner: Allegheny Airlines, Inc., and Piedmont Airlines, Inc.

Section of 14 CFR Affected: 14 CFR V, paragraph A.1, and section IX, paragraph A.1 of appendix I to part 121.

Description of Relief Sought/Disposition: To permit employees performing safety-sensitive functions for Allegheny to perform identical functions for Piedmont Airlines, Inc., without being subject to additional pre-employment drug testing. Grant, 7/1/2004, Exemption No. 8356.

Docket No.: FAA-2004-17728.

Petitioner: Mr. LeRoy Kruid.

Section of 14 CFR Affected: 14 CFR 121.383(c).

Description of Relief Sought/Disposition: To permit Mr. LeRoy Kruid to act as a pilot in operations conducted under part 121 after reaching his 60th birthday. Denial, 6/30/2004, Exemption No. 8355.

Docket No.: FAA-2001-9708.

Petitioner: Frontier Flying Service, Inc.

Section of 14 CFR Affected: 14 CFR 135.152(a).

Description of Relief Sought/Disposition: To permit Frontier Flying Service, Inc., an amendment to Exemption No. 7606 by extending its August 17, 2004, termination date only as it pertains to the two Beech 1900C airplanes with Serial Nos. UC-95 and UC-136. Grant, 7/2/2004, Exemption No. 7606A.

[FR Doc. 04-16846 Filed 7-22-04; 8:45 am]

BILLING CODE 4910-13-P